DEPARTMENT OF ENERGY

Electric Vehicle Working Group

AGENCY: Department of Energy.

ACTION: Notice of cancellation of open virtual meeting.

SUMMARY: On January 8, 2025, the Department of Energy published a notice of open meeting announcing a virtual meeting on January 30, 2025, of the Electric Vehicle Working Group (EVWG). This notice announces the cancellation of this virtual meeting.

DATES: The virtual meeting scheduled for Thursday, January 30, 2025, announced in the Wednesday, January 8, 2025, issue of the Federal Register (FR Doc. 2025-00219, 90 FR 1474), is cancelled.

FOR FURTHER INFORMATION CONTACT: Dr. Rachael Nealer, Designated Federal Officer, U.S. Department of Energy, 1000 Independence Avenue SW, Washington, DC 20585; email: evwg@ee.doe.gov; telephone: (202) 586-3916.

Signing Authority

This document of the Department of Energy was signed on January 24, 2025, by David Borak, Committee Management Officer, Secretarial Office of Boards & Councils, pursuant to delegated authority from the Acting Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 24, 2025.
Treena V. Garrett,
Federal Register Liaison Officer, U.S. Department of Energy.

[FR Doc. 2025-01887 Filed 1-28-25; 8:45 am]

BILLING CODE 6450-01-P